DEPARTMENT OF LABOR

Employment and Training Administration

[TA-W-55,085]

Jomed, San Diego, CA; Notice of Termination of Investigation

Pursuant to section 221 of the Trade Act of 1974, as amended, an investigation was initiated on June 16, 2004, in response to a petition filed by a State agency representative on behalf of workers at Jomed, San Diego, California.

The petitioner has requested that the petition be withdrawn. Consequently, further investigation would serve no purpose and the investigation has been terminated.

Signed in Washington, DC, this 19th day of July, 2004.
Linda G. Poole,
Certifying Officer, Division of Trade Adjustment Assistance.

[FR Doc. 04-17603 Filed 8-2-04; 8:45 am]

BILLING CODE 4510-30-P